DEPARTMENT OF THE INTERIOR

National Park Service

National Park System Advisory Board; Meeting

AGENCY: National Park Service, Interior.

ACTION: Notice of meeting.

SUMMARY: Notice is hereby given in accordance with the Federal Advisory Committee Act, 5 U.S.C. Appendix, and part 65 of title 36 of the Code of Federal Regulations, that the National Park System Advisory Board will meet July 21-22, 2008, in Washington, DC. The Board will have an orientation session on the morning of July 21, and in the afternoon tour park sites in the National Capital Region. On July 22, the Board will convene its business meeting from 8:30 a.m., to 5 p.m.

DATES: July 21-22, 2008. Location: American Geophysical Union (AGU), Meeting Room A, 2000 Florida Avenue, NW., Washington, DC 20009-1277; 202-462-6900.

FOR FURTHER INFORMATION CONTACT: (a) For information concerning the National Park System Advisory Board or to request to address the Board, contact Ms. Jennifer Lee, Office of the Director, National Park Service, 1849 C Street, NW., Room 2023, Washington, DC 20240; telephone 202-219-1689. (b) To submit a written statement specific to, or request information about, any National Historic Landmarks matter listed below, or for information about the National Historic Landmarks Program or National Historic Landmarks designation process and the effects of designation, contact J. Paul Loether, Chief, National Register of Historic Places and National Historic Landmarks Program, National Park Service, 1849 C Street, NW. (2280), Washington, DC 20240; e-mail Paul_Loether@nps.gov.

SUPPLEMENTARY INFORMATION: On July 21, the Board will convene from 8:30 a.m. to 2:30 p.m., for an orientation session for Board members, followed by a tour of national park sites of the National Capital Region. The Board will convene its business meeting on July 22 at 8:30 a.m. and adjourn at 5 p.m. During the course of the two days, the Board will be addressed by Secretary of the Interior Dirk Kempthorne and National Park Service Director Mary Bomar, and will be briefed by park officials regarding environmental, education, and partnership programs. The Board will receive status reports on matters pending before the Board, including health and recreation, education, national historic landmarks, and science. Other officials of the Department of the Interior and the National Park Service may address the Board, and other miscellaneous topics and reports may be covered.

National Historic Landmarks Program matters will be considered in the morning session of the business meeting, during which the Board may consider the following:

(A) Nominations

California

• The Forty Acres, Delano, CA.

Florida

• Freedom Tower, Miami, FL.

Georgia

• Woodrow Wilson Boyhood Home, Augusta, GA.

Louisiana

• Shreveport Municipal Memorial Auditorium, Shreveport, LA.

Massachusetts

• Alden, John And Priscilla, Family Sites, Duxbury, MA.

Mississippi

• Lyceum—The Circle Historic District, Oxford, MS.

Montana

• Rosebud Battlefield/Where the Girl Saved Her Brother, Big Horn County, MT.

• Wolf Mountains Battlefield/Where Big Crow Walked Back and Forth, Rosebud County, MT.

New York

• Aaron Copland House, Cortlandt Manor, NY.

• Camp Uncas, Hamilton County, NY.

• First Reformed Protestant Dutch Church Of Kingston, Kingston, NY.

• The Frick Collection and Art Reference Library Building, New York, NY.

• Solomon R. Guggenheim Museum, New York, NY.

Pennsylvania

• Bryn Athyn Historic District, Bryn Athyn, PA.

• The College of Physicians of Philadelphia Building, Philadelphia, PA.

Virginia

• Skyline Drive, Shenandoah National Park, VA.

Washington

• B Reactor, Benton County, WA.

(B) Proposed Amendments to Existing Designations

• Coltsville Historic District, Hartford, CT (name change, boundary revision and additional documentation).

• Newport Historic District, Newport, RI (boundary revision and updated documentation).

• Skidmore/Old Town Historic District, Portland, OR (updated documentation).

The Board meeting will be open to the public. The order of the agenda may be changed, if necessary, to accommodate travel schedules or for other reasons. Space and facilities to accommodate the public are limited and attendees will be accommodated on a first-come basis. Anyone may file with the Board a written statement concerning matters to be discussed. The Board also will permit attendees to address the Board, but may restrict the length of the presentations, as necessary to allow the Board to complete its agenda within the allotted time.

Draft minutes of the meeting will be available for public inspection about 12 weeks after the meeting, in room 7252, Main Interior Building, 1849 C Street, NW., Washington, DC.

Dated: May 12, 2008.
Bernard Fagan,
Deputy Chief, Office of Policy.

[FR Doc. E8-10988 Filed 5-15-08; 8:45 am]

BILLING CODE 4310-70-P